DEPARTMENT OF THE INTERIOR

Bureau of Indian Affairs

Grant Program To Assess, Evaluate and Promote Development of Tribal Energy and Mineral Resources

AGENCY: Bureau of Indian Affairs, Interior.

ACTION: Solicitation of proposals.

SUMMARY: The Energy and Mineral Development Program (EMDP) provides funding to Indian tribes with the mission goal of assessing, evaluating, and promoting energy and mineral resources on Indian trust lands for the economic benefit of Indian mineral owners. To achieve these goals, the Department of the Interior's Office of Indian Energy and Economic Development (IEED), through its Division of Energy and Mineral Development (DEMD) office, is soliciting proposals from tribes. The Department will use a competitive evaluation process to select several proposed projects to receive an award.

DATES: Submit grant proposals on or before March 16, 2012. We will not consider grant proposals received after this date.

ADDRESSES: Mail or hand-carry EMDP proposals to the Department of the Interior, Division of Energy and Mineral Development, Attention: Energy and Mineral Development Program, 12136 W. Bayaud Avenue, Suite 300, Lakewood, Colorado 80228. After November 30, 2011, the DEMD office will have a new address at 13922 Denver West Parkway, Suite 200, Lakewood, Colorado 80401. Applicants should also inform local Bureau of Indian Affairs (BIA) offices by forwarding a copy of their proposal to their own BIA Agency and Regional offices.

Emailing your proposal is highly recommended this year. You may email your proposal to Amanda John at amanda.john@bia.gov or Amber Beckham at amber.beckham@bia.gov. We will respond back to you via email that we received your proposal and that it was readable.

FOR FURTHER INFORMATION CONTACT: If you have questions about the EMDP program or submission process, please contact either Amanda John, Tel: (720) 407-0672, email amanda.john@bia.gov or Robert Anderson, Tel: (720) 407-0602 or email: robert.anderson@bia.gov.

For additional copies of the Proposal Writing Guidelines Manual, contact Tahnee KillsCrow at Tel: (720) 407-0655, or email: tahnee.killscrow@bia.gov.

If you have technical questions about the commodity you wish to assess or develop, please contact the appropriate DEMD persons listed below:

• Mineral Projects (Precious Metals, Sand and Gravel): Lynne Carpenter, Tel: (720) 407-0605, email: lynne.carpenter@bia.gov, or David Holmes, Tel: (720) 407-0609, email: david.holmes@bia.gov;

• Conventional Energy Projects (Oil, Natural Gas, Coal): Bob Just, Tel: (720) 407-0611, or email: robert.just@bia.gov;

• Renewable Energy Projects (Biomass, Wind, Solar): Winter Jojola-Talburt, Tel: (720) 407-0668 or email: winter.jojola-talburt@bia.gov; and

• Geothermal Energy: Bob Just, Tel: (720) 407-0611, email: bob.just@bia.gov.

You may also find additional information about the EMDP program from our Web site, such as sample proposals, sample tribal Resolutions, frequently asked questions, best practices for creating proposals, and general information about the technical assistance that the DEMD office can provide to tribes. To locate our Web page, navigate to the Indian Affairs Web site at www.bia.gov. Along the top tabs, click on the tab “WHO WE ARE.” On that page, you will find a heading “OUR ORGANIZATION STRUCTURE.” Locate the “Indian Energy and Economic Development (IEED)” link and click on that. Under the “SPOTLIGHT” section there will be a new announcement titled “Energy and Mineral Tribal Grant Program (EMDP).” Clicking on that link will take to you to the page containing the EMDP program information.

The full link to the same page is as follows: http://www.bia.gov/WhoWeAre/AS-IA/IEED/DEMD/TT/TF/index.htm. Copy the above link address and paste it into the address box on your Internet browser program.

SUPPLEMENTARY INFORMATION:

A. Background

B. Items To Consider Before Preparing an Application for an Energy and Mineral Development Grant

C. How To Prepare an Application for Energy and Mineral Development Funding

D. Submission of Application in Digital Format

E. Application Evaluation and Administrative Information

F. When To Submit

G. Where To Submit

H. Transfer of Funds

I. Reporting Requirements for Award Recipients

J. Requests for Technical Information

A. Background

Section 103 of the Indian Self-Determination Act, Public Law 93-638, as amended by Public Law 100-472 contains the contracting mechanism for energy and mineral development-funded programs.

The IEED, through the DEMD office located in Lakewood, Colorado, administers and manages the EMDP program. The objectives of this solicitation are to receive proposals for energy and mineral development projects in the areas of exploration, assessment, development, feasibility and market studies.

Energy includes both conventional energy resources (such as oil, gas, coal, uranium, and coal bed gas) and renewable energy resources (such as wind, solar, biomass, hydro and geothermal). Mineral resources include industrial minerals (e.g., sand, gravel), precious minerals (e.g., gold, silver, platinum), base minerals (e.g., lead, copper, zinc), and ferrous metal minerals (e.g., iron, tungsten, chromium).

The DEMD's goal is to assist tribes to achieve economic benefits from their energy and mineral resources. The purpose of the program is to expand the knowledge-base through which tribes, either by themselves or with industry partners, can bring new energy and mineral resources into the marketplace through a comprehensive understanding of their undeveloped resource potential. A strong knowledge-base will also ensure that new resources are produced in an environmentally acceptable manner.

Each year, DEMD usually receives more energy and mineral development applications than can be funded in that year. The DEMD has discretion for awarding funds and requires that the tribes compete for such funds on an annual basis. The DEMD has established ranking and paneling procedures with defined criteria for rating the merits of proposals to make the award of limited funds as fair and equitable as possible.

The EMDP program is funded under the non-recurring appropriation of the BIA's budget. Congress appropriates funds for EMDP funding on a year-to-year basis. Thus, while some projects may extend over several years, funding for successive years depends on each fiscal year's appropriations.

The information collection requirements contained in this notice have been reviewed and approved by the Office of Management and Budget (OMB) under the Paperwork Reduction Act, 44 U.S.C. 3504(h). The OMB control number is 1076-0174. The authorization expires on April 30, 2013. An agency may not sponsor, and you are not required to respond to, any information collection that does not display a currently valid OMB Control Number.

B. Items To Consider Before Preparing an Application for an Energy and Mineral Development Grant

1. Trust Land Status

The EMDP funding can only be made available to tribes whose lands are held in trust or restricted fee by the federal government. Congress has appropriated these funds for the development of energy and mineral resources only on Indian trust or restricted fee lands.

2. Tribes' Compliance History

The DEMD will monitor all EMDP grants for statutory and regulatory compliance to assure that awarded funds are correctly applied to approve projects. Tribes that expend funds on unapproved functions may forfeit remaining funds in that proposal year, and possibly for any future EMDP funding. The DEMD may also conduct a review of prior award expenditures before making a decision on funding current year proposals, and may request explanation from tribes who have outstanding project funds from previous years.

3. BIA Sanction List

Tribes who are currently under BIA sanction at Level 2 or higher resulting from non-compliance with the Single Audit Act may be ineligible from being considered for an award. Tribes at Sanction Level 1 will be considered for funding.

4. Completion of Previous Energy and Mineral Development Projects

Generally, the DEMD will not support nor recommend additional funding for a new project until a previous year's project has been completed, documented and reviewed by the DEMD.

However delays sometime occur that are beyond the control of the tribe or their consultant. These situations will be taken into consideration when making decisions on new EMDP awards. Examples of events which cause delays include late delivery of funding awards to the tribal project, difficulty in finding appropriate contractors to perform project functions, permitting issues, and weather delays.

5. Multiple Projects

The DEMD will accept separate applications for multiple projects, even if the project concerns the same commodity. For example, the tribe may have a viable renewable energy resource, but needs to better define the resource with further exploration work or analysis. Concurrently the tribe also needs to evaluate the market place for selling their resource. In this situation, two separate proposals can be submitted and DEMD will apply the same objective ranking criteria to each proposal, although EMDP budget levels may limit the full application of this guideline. Contact DEMD if you have questions concerning multiple projects.

6. Multi-Year Projects

The DEMD cannot award multi-year funding for a project. Funding available for the EMDP is subject to annual appropriations by Congress and, therefore, DEMD can only consider single-year funded projects.

The EMDP projects requiring funding beyond one-year intervals should be submitted as single-year proposals with an explanation that the tribe expects additional time will be required to complete the project and will, therefore, be submitting applications in following years. The DEMD will make every effort to fund a tribe's project in following years although there is no guarantee of EMDP awards being available for future years of a multi-year project due to the discretionary nature of EMDP award funding.

7. Use of Existing Data

The DEMD maintains a comprehensive set of tribal data and information and has spent considerable time and expense in collecting digital land grids, geographic information system (GIS) data and imagery data for many reservations. Well and production data, geophysical data (such as seismic data), geology and engineering data, are all stored at DEMD's offices. All of these data sets can be made available to tribes or their consultants to reduce the cost of their investigations.

Budget line items will not be allowed for data or products that reside at DEMD. The tribe or the tribe's consultant must first check with DEMD for availability of these data sets on the reservation they are investigating. If DEMD does not have a particular data set, then EMDP funds may be used to acquire such data.

When a proposal includes the acquisition of new data, the tribe should thoroughly search for preexisting data to ensure there is no duplication. If older data does exist, it may still have considerable value. Using today's data processing and interpretation techniques, older data may be updated or improved, either by the DEMD or by the tribe's consultant.

8. Using Technical Services at DEMD

The DEMD has many in-house technical capabilities and services that the tribes may wish to use. All services provided by DEMD are without charge to the tribes. Tribes can obtain maximum benefit from energy and mineral development studies by first using DEMD's services, or by using DEMD services in conjunction with outside consultants. Services available at DEMD include:

• Technical literature search of previous investigations and work performed in and around reservations using reference materials located nearby, such as the U.S. Geological Survey (USGS) library in Denver, Colorado, or the Colorado School of Mines library in Golden, Colorado;

• Well production history analysis, decline curve and economic analysis of data obtained through DEMD's in-house databases;

• Well log interpretation, including correlation of formation tops, identification of producing horizons, and generation of cross-sections;

• Technical mapping capabilities, using data from well log formation tops and seismic data;

• Contour mapping capabilities, including isobaths, calculated grids, color-fill plotting, and posting of surface features, wells, seismic lines and legal boundaries;

• Seismic data interpretation and data processing;

• Three dimensional modeling of mine plans;

• Economic analysis and modeling for energy and solid mineral projects; and

• Marketing studies.

9. What the Energy and Mineral Development Program Cannot Fund

As stated above, these funds are specifically for energy and mineral development project work only. Examples of elements that cannot be funded include:

• Establishing or operating a tribal office, and/or purchase of office equipment;

• Salaries or fringe benefits for tribal employees; except for clearly defined technical project related tasks. Salary requests must comply with the detailed budget component as described under Mandatory Component 3;

• Indirect costs as defined by the Federal Acquisition Regulation, and overhead;

• Purchase of equipment such as computers, vehicles, field gear, anemometer (Met) towers, etc. that are used to perform pre-development activities. However, the leasing of this type of equipment for the pre-development activities is allowed;

• Purchasing or leasing of equipment for the development of energy and mineral resources;

This would include such items as well drilling rigs, backhoes, bulldozers; cranes, trucks, etc;

• Drilling of wells for the sale of hydrocarbons, geothermal resources, other fluid and solid minerals (however, funds may be used for the drilling of exploration holes for testing, sampling, coring, or temperature surveys);

• Legal fees;

• Application fees associated with permitting;

• Academic research projects;

• Development of unproven technologies;

• Training (for assistance on training and workforce development, contact IEED's Division of Workforce Development, Mr. Francis Dunne, at (202) 495-9843);

• Contracted negotiation fees;

• Purchase of data that is available through DEMD;

• Any other activities not authorized by the tribal resolution or by the award letter; and,

• Environmental Impact Studies (EIS).

10. Who Performs Energy and Mineral Development Studies?

The tribe determines who they wish to perform the energy and mineral development work, such as a consultant, a private company, or other sources described in the list below:

• A private company (although that company must not be competing for exploration or development rights on the tribe's lands);

• An experienced and qualified scientific consultant;

• A federal government agency (such as U.S. Geological Survey or the U.S. Department of Energy or a state government agency (such as a state geological survey);

• The DEMD office, although in this case, funds would not be transferred to the tribe but would be obligated by DEMD.

There are no requirements or restrictions on how the tribe performs their contracting function for the consultant or company. The tribe is free to issue the contract through a sole source selection or through competitive bidding, depending on the tribe's own contracting policies and procedures.

C. How to Prepare an Application for Energy and Mineral Development Funding

Each tribe's application must meet the criteria in this notice. A complete energy and mineral development request must contain the following three mandatory components:

1. A current tribal resolution authorizing the proposed project;

2. A proposal describing the planned activities and deliverable products; and,

3. A detailed budget estimate.

Any funding request that does not contain all of the mandatory components will be considered incomplete and will be returned to the tribe with an explanation. The tribe will then be allowed to correct all deficiencies and resubmit the proposal for consideration on or before the deadline.

This year there will be a page limit restrictions on proposal components. However the applicant will be allowed (and encouraged) to make use of appendices. Brevity of the proposal's proposal and statement of work will assist reviewers and DEMD staff in dealing effectively with proposals. Therefore the project proposal, statement of work and description of deliverable products may not exceed 20 pages. Visual materials, including charts, graphs, maps, photographs and other pictorial presentations are included in the 20-page limitation.

However an application may use appendices for the following types of discussions:

• Use an appendix for the overview of a tribe's history; location, government structure, population makeup, etc.

• Use an appendix to document previous work that has been performed concerning this proposal, including any work that was done under a previous EMDP grant.

• Use an appendix to expand on particular technical technologies or methodologies that will assist DEMD reviewers to gain a better understanding of these methods.

A detailed description of each of the required components follows.

1. Mandatory Component 1: Tribal Resolution

The tribal resolution must be current, signed, and on tribal letterhead. It must authorize tribal approval for an EMDP proposed project in the same fiscal year as that of the energy and mineral development proposal and must explicitly refer to the assessment proposal being submitted. However the resolution should not specify a starting date for the project. The tribal resolution must include:

(a) A description of the commodity or commodities to be studied;

(b) A statement that the tribe is willing to consider development of any potential energy or mineral resource discovered;

(c) A statement describing how the tribe prefers to have the energy or mineral program conducted (i.e., by DEMD in-house professional staff only, by DEMD staff in conjunction with tribal professional staff, by private contractors or consultants, or through other acceptable means).

It is highly recommended that the following paragraphs also be included:

(d) A statement that the tribe will consider public release of information obtained from the energy and mineral development study. (Public release is meant to include publications, a poster session, attending a property fair, or giving an oral presentation at industry or federal meetings and conferences. It does not mean providing copies of the data or reports to any individual, private company or other government agency without express written permission from the tribal government.)

(e) We recommend that language also be inserted stating that the tribe requests and authorizes any resultant P.L. 93-638 contract (unless the tribe is a self-governance tribe), as this will expedite the process of the tribe entering into a 93-638 contract and receiving their funds more promptly. This is only a suggestion and up to the tribe to insert such language.

Note: Any information in the possession of DEMD or submitted to DEMD throughout the EMDP process, including the final energy and mineral development study, constitutes government records and may be subject to disclosure to third parties under the Freedom of Information Act (FOIA), 5 U.S.C. 552, and the Department of the Interior's FOIA regulations at 43 CFR part 2, unless a FOIA exemption or exception applies or other provisions of law protect the information. A tribe may, but is not required to, designate information it submits as confidential commercially or financially sensitive information, as applicable, in any submissions it makes throughout the EMDP process. If DEMD receives a FOIA request for this information, it will follow the procedures in 43 CFR Part 2.

2. Mandatory Component 2: Energy and Mineral Development Proposal

The proposal should be well organized, contain as much detail as possible, yet be presented succinctly to allow a quick and thorough understanding of the proposal by the DEMD ranking team.

Many tribes utilize the services of a staff geoscientist or private consultant to prepare the technical part of the proposal. However, some tribes may not have these resources and therefore, are urged to seek DEMD's technical assistance in preparing their EMDP proposal. Tribes who want technical assistance from DEMD should make this request in writing to the address provided in the ADDRESSES section of this notice. The request should be made as early as possible to give DEMD time to provide the assistance.

The proposal should include the following sections:

(a) Overview and Technical Summary of the Project: Prepare a short summary overview of the proposal that is no longer than one page. The summary should include the following:

• Elements of the proposed study;

• Reasons why the proposed study is needed;

• Total requested funding; and,

• Tribal project lead and tribal contact.

(b) Project Objective and Technical Description, Scope of Work: Provide a technical description of the project area, if sufficient information exists. Give examples of a typical resource occurrence to be examined under the proposal, such as the oil or gas deposit, etc. If possible, include criteria applicable to these types of resource occurrences.

• Multi-Phased Studies: Explain whether this assessment request will begin a new study or continue a study that has already been partially completed. Also explain how long the study will last. [Note: DEMD cannot guarantee funding for a project from one fiscal year to the next.]

• Known Energy/Mineral Resource: If a known energy or mineral deposit exists or produces near the reservation, discuss the possible extension or trend of the deposit onto the reservation.

• Existing Information: Acknowledge any existing mineral exploration information and provide references. The proposed new study should not duplicate previous work.

• Environmental or Culturally Sensitive Areas: Describe and verify if the resources are located in an archeological, environmentally or culturally sensitive area of the reservation. The tribe must also assist DEMD with the Environmental Assessment phase of the proposed project.

• Describe why the tribe needs the proposed energy and mineral development. Discuss the short and long term benefits to the tribe.

• Describe the work being proposed, project goals and objectives expected to be achieved by the proposed project.

• Describe the location on the reservation where the work will be done. Include relevant page size maps and graphs.

• Provide a detailed description of the scope of work and justification of a particular method. For example, if a geochemical sampling survey is planned, an explanation might include the quantity samples to be obtained, what type of sampling will be targeted, the soil horizons to be tested, general location of the projected sampling, how the samples are to be analyzed and why geochemistry was chosen as an exploration technique. Furnish similar types of explanations and details for geophysics, geologic mapping, core drilling, or any other type of assessment planned.

(c) Deliverable Products: Describe all deliverable products that the proposed assessment project will generate, including all technical data to be obtained during the study. Describe the types of maps to be generated and how these maps and cross-sections will help define the energy and mineral potential on the reservation. Discuss any planned status reports as well as the parameters of the final report.

(d) Resumes of Key Personnel: If the tribe is using a consultant's services, provide the resumes of key personnel who will be performing the project work. The resumes should provide information on each individual's expertise. If subcontractors are used, these should also be disclosed.

3. Mandatory Component 3: Detailed Budget Estimate

A detailed budget estimate is required for the funding level requested. The detail not only provides the tribe with an estimate of costs, but it also provides DEMD with the means of evaluating the cost-benefit of each project. This line-by-line budget must fully detail all projected and anticipated expenditures under the EMDP proposal. The ranking committee reviews each budget estimate to determine whether the budget is reasonable and can produce the results outlined under the proposal.

Each proposed project function should have a separate budget. The budget should break out contract and consulting fees, fieldwork, lab and testing fees, travel and all other relevant project expenses. Preparation of the budget portion of an EMDP proposal should be considered a top priority. The EMDP proposals that include sound budget projections will receive a more favorable ranking over those proposals that fail to provide appropriate budget projections.

The budget page(s) should provide a comprehensive breakdown for those project line items that involve several components, or contain numerous sub-functions.

(a) Contracted Personnel Costs: This includes all contracted personnel and consultants, their respective positions and time (staff-hour) allocations for the proposed functions of a project.

• Personnel funded under the P.L 93-638 Energy and Mineral Development Program must have documented professional qualifications necessary to perform the work. Position descriptions or resumes should be attached to the budget estimate.

• If a consultant is to be hired for a fixed fee, the consultant's expenses should be itemized as part of the project budget.

• Consultant fees must be accompanied by documentation that clearly identifies the qualifications of the proposed consultants, how the consultant(s) are to be used, and a line item breakdown of costs associated with each consultant activity.

(b) Travel Estimates: Estimates should be itemized by airfare, vehicle rental, lodging, and per diem, based on the current federal government per diem schedule.

(c) Data Collection and Analysis Costs: These costs should be itemized in sufficient detail for the reviewer to evaluate the charges. For example, break down drilling and sampling costs in relation to mobilization costs, footage rates, testing and lab analysis costs per core sample.

(d) Other Expenses: Include computer rental, report generation, drafting, and advertising costs for a proposed project.

D. Submission of Application in Digital Format

Submit the application, including the budget pages, in digital form. The DEMD will return proposals that are submitted without the digital components.

Acceptable formats are Microsoft Word and Adobe Acrobat PDF. Each file must be saved with a filename that clearly identifies the file being submitted. File name extensions must clearly indicate the software application used in preparing the documents (e.g., doc, docx, .pdf). Documents that require an original signature, such as cover letters, tribal resolutions and other letters of tribal authorization can be scanned and submitted electronically.

The files can be copied to compact disk (CD or DVD) and mailed, although a more preferable method is to email the complete application. The DEMD will immediately respond back that the application was received and was readable. The budget should be in table format which is recommended to be in Microsoft Excel.

Emails of projects proposals, budget and tribal resolution should be sent to both Amanda John (amanda.john@bia.gov) and Amber Beckham (Amber.Beckham@bia.gov).

If you have any additional questions concerning the Energy and Mineral Development Program proposal submission process, please contact Amanda John at (720) 407-0672 or Amber Beckham at (720) 407-0692.

E. Application Evaluation and Administrative Information

1. Administrative Review

Upon receiving an application, DEMD will perform a preliminary review of the proposal to determine whether it contains the prescribed information, includes a tribal resolution, and contains sufficient technical and scientific information to permit an evaluation, and does not duplicate or overlap previous or current funded EMDP projects.

The DEMD staff may return an application that does not include all information and documentation required within this notice. During the review of a proposal, DEMD may request the submission of additional information.

2. Ranking Criteria

Proposals will be formally evaluated by a DEMD Review and Ranking Panel using the six criteria described below. Each criterion has a weight percent which is used to determine a final score.

(a) Resource Potential; Weight = 10%. If the resource is determined not to exist on the reservation, then the proposal will be rejected. The panel will base their scoring on both the information provided by the tribe and databases maintained by DEMD. It is critical that the tribe attempt to provide all pertinent information in their proposal in order to ensure that an accurate review of the proposal is accomplished. The reviewers are aware that many tribes have little energy or mineral resource data on reservation lands, and in some cases, resource data does not exist. However, geologic and historical mineral development data exist throughout most of the continental U.S. on lands surrounding Indian reservations.

Many times a producing energy or mineral deposit exists outside but near the reservation boundary. The geologic setting containing the resource may extend onto the reservation, regardless of the size of the reservation. This would suggest potential of finding similar resources on the reservation. In some cases, available data on non-reservation lands may allow for a scientifically acceptable projection of favorable trends for energy or mineral occurrences on adjacent Indian lands.

For renewable energy proposals, this factor applies to conditions favorable for the economic development of the renewable energy source being studied.

Examples of types of questions that the DEMD ranking panel will be analyzing in their review include: Based on your own knowledge or investigations, does the resource exist on or adjacent to the reservation? Does the application adequately describe the existence of the resource being present on or near the reservation, providing ample supporting technical evidence to support this?

(b) Marketability of the Resource; Weight = 15%. Reviewers will base their scoring on both the short- and long-term market conditions of the resources. Reviewers are aware that marketability of an energy or mineral commodity depends upon existing and emerging market conditions. Industrial minerals such as aggregates, sand/gravel and gypsum are dependent on local and regional economic conditions.

Precious and base metal minerals such as gold, silver, lead; copper and zinc are usually more dependent upon international market conditions. Natural gas and coal bed methane production depends upon having relatively close access to a transmission pipeline, as does renewable energy to an electric transmission grid.

Coal and crude oil production, on the other hand, carry built-in transportation costs, making those resources more dependent on current and projected energy commodity rates. At any time, some commodities may have a strong sustained market while others experience a weak market environment, or even a market surge that may be only temporary.

Reviewers are aware of pitfalls surrounding long-term market forecasts of energy and mineral resources, so the proposal should address this element fully. Also, short-term forecasts may indicate an oversupply from both national and internationally developed properties, and therefore additional production may not be accommodated. Certain commodities such as electricity may be in high demand in some regional sectors, but the current state of the transmission infrastructure does not allow for additional kilowatts to be handled, thereby hindering a market opportunity.

On the other hand, the potential for improving markets may be suggested by market indicators. Examples of market indicators include price history, prices from the futures markets, rig count for oil and gas and fundamental factors like supply shortages, political unrest in foreign markets, and changes in technology.

Examples of the types of questions that the DEMD ranking panel will be analyzing in their review include: Does the application describe an existing or potential market for the commodity in the area? Is the product suitable for the area or region? Does the tribe have a realistic plan to market this resource? Is the end product that the tribe wants to market commercially viable?

(c) Economic Benefits Produced by the Project; Weight = 25%. This year there will be greater emphasis on funding projects that would have an impact on tribal jobs and income. To receive a high score for this ranking criterion, the proposal should clearly state how the project would achieve this result. If the project indirectly creates economic benefits, for example applying royalty income from oil and gas productions to create other tribal businesses, that would satisfy this criterion. Whatever the commodity being studied, the ultimate goal is to collect useful data and information that allows the tribe to stimulate development on their lands. This might occur with industry partners or the tribe may develop the resource themselves.

Examples of the types of questions that the DEMD ranking panel will be analyzing in their review include: Are the economic goals and objectives of the project explained in the proposal? Does the proposal quantify the economic benefits (e.g., revenue, royalty income, number of jobs) that would result from completion of the project?

(d) Tribes' Willingness to Develop and Commitment to the Project; Weight = 20%: The tribe's willingness to consider developing any potential resource must be clearly stated in the proposal and the tribal resolution. Note that this is not a statement for mandatory development of any potential resource, but just that the tribe is willing to develop. The decision on whether to develop will always lie with the tribe. The willingness-to-develop statement should sufficiently explain how the tribe intends to accomplish this task. DEMD will also evaluate willingness to develop based upon the tribe's willingness to release energy or mineral data to potential developers.

Concerning the tribe's commitment to the project, the tribe should explain how it will participate in the study, such as by appointing a designated lead and contact person (especially a person with some knowledge of the technical aspects of the projects, and direct contact with the tribe's natural resource department and tribal council), to be committed to the successful completion of the project.

If the tribe has a strategic plan for development, this should be discussed in the proposal. A strategic plan outlines objectives, goals, and methodology for creating sustainable tribal economic development. The proposal should also explain how the tribe's EMDP proposal fits within that strategic plan.

Examples of the types of questions that the DEMD ranking panel will be analyzing in their review include: Does the proposal explain how the tribe is committed to the project? Has the tribe appointed a designated lead or contact person within the tribe to serve as the project administrator (project champion)? Does the tribe have an existing strategic development plan and/or plan of action that includes the economic development of energy or mineral resources (plan of action could include: establishment of an energy task force/committees, resolutions, energy office, etc.)? Is the willingness to develop the resource clearly stated in the tribal resolution (is the full council on board with development)? Has the proposal clearly described the tribe's willingness to develop? Is the tribe willing to release non-proprietary data to potential developers or partners? Is the tribe's current business environment conductive to development?

(e) Budget Completeness, Cost Reasonableness, Cost Realism and Detail; Weight = 15%: The submitted budget should be evaluated as to the reasonableness and appropriateness of the costs for each line item, and the relationship to achieving the project's stated goals and objectives.

Examples of the types of questions that the DEMD ranking panel will be analyzing in their review include: Does the budget comply with Mandatory Component 3 (Detail Budget Estimate) from the guidelines? Is the budget detailed enough to explain how funds are to be allocated? Are line item budget numbers appropriate and reasonable to complete the proposed tasks?

(f) Appropriateness of the Technical Proposal and Statement of Work; Weight = 15%: The submitted application should address all the elements listed as Mandatory Component 2 in the guidelines from this Federal Register solicitation, and be technically clear to understand.

Examples of the types of questions that the DEMD ranking panel will be analyzing in their review include: Does the proposal address all of elements listed as Mandatory Component 2 in the guidelines from the Federal Register solicitation? Is the technical proposal clear to understand and adequately written? Are the techniques and methodologies being applied technically reasonable and follow best practices? Does the technical proposal adequately explain how the techniques and methods to be used in the project would meet the goals and objectives of the proposal?

3. Ranking of Proposals and Award Letters

The EMDP review committee will rank the energy and mineral development proposals using the selection criteria outlined in this section. The DEMD will then forward the rated requests to the Director of IEED for approval. Once approved, the Director will submit all proposals to the Assistant Secretary—Indian Affairs for concurrence and announcement of awards to those selected tribes, via written notice to the tribal leader. Those tribes not receiving an award will also be notified immediately in writing to the tribal leader.

F. When To Submit

The DEMD will accept applications at any time before the deadline stated in the DATES section of this notice, and will send a notification of receipt to the return address on the application package, along with a determination of whether or not the application is complete.

G. Where To Submit

Submit the energy and mineral development proposals to DEMD at the address listed in the ADDRESSES section of this notice. Applicants should also forward a copy of their proposal to their own BIA Agency and Regional offices.

However, DEMD asks that tribes or consultants do not send the entire proposal via fax, as this severely overloads DEMD's fax system.

The BIA Regional or Agency level offices receiving a tribe's submitted EMDP proposal do not have to forward it on to DEMD. It is meant to inform them of a tribe's intent to perform energy or mineral studies using EMDP funding. The BIA Regional or Agency offices are free to comment on the tribe's proposal, or to ask DEMD for other information.

H. Transfer of Funds

The IEED will transfer a tribe's EMDP award funds to the BIA Regional Office that serves that tribe, via a sub-allotment funding document coded for the tribe's EMDP project. The tribe should anticipate the transfer and be in contact with budget and self determination personnel at the Regional and Agency office levels. Tribes receiving EMDP awards must establish a new 638 contract to complete the transfer process, or use an existing 638 contract if necessary (unless the tribe is a self-governance tribe).

I. Reporting Requirements for Award Recipients

1. Quarterly Reporting Requirements

During the life of the EMDP project, quarterly written progress and financial status reports are to be submitted to the DEMD project monitor for the project. The beginning and ending quarter periods are to be based on the actual start date of the EMDP project. This date can be determined between DEMD's project monitor and the tribe.

The quarterly status report can be a one- to two-page summary of events, accomplishments, problems and results that took place during the quarter. Quarterly reports are due 2 weeks after the end of a project's fiscal quarter. The financial status information is reported via a SF169A or SF425.

Applicants should also forward a copy of their reports to their own BIA Agency and Regional offices for which the 638 contract exists. Additionally, the BIA Agency and Regional office may have reporting requirements in the 638 contract which may or may not correspond with DEMD's EMDP reports which must still be in compliance.

2. Final Reporting Requirements

• Delivery Schedules. The tribe must deliver all products and data generated by the proposed assessment project to DEMD's office within 2 weeks after completion of the project.

• Mandatory Requirement to Provide Reports and Data in Digital Form. The DEMD maintains a repository for all energy and mineral data on Indian lands, much of it derived from these energy and mineral development reports. As EMDP projects produce reports with large amounts of raw and processed data, analyses and assays, DEMD requires that deliverable products be provided in digital format, along with printed hard copies.

Reports can be provided in either Microsoft Word or Adobe Acrobat PDF format. Spreadsheet data can be provided in Microsoft Excel, Microsoft Access, or Adobe PDF formats. All vector figures should be converted to PDF format. Raster images can be provided in PDF, JPEG, TIFF, or any of the Windows metafile formats.

• Number of Copies. When a tribe prepares a contract for energy and mineral development, it must describe the deliverable products and include a requirement that the products be prepared in standard format (see format description above). Each energy and mineral development contract will provide funding for a total of six printed and six digital copies to be distributed as follows:

(a) The tribe will retain two printed and two digital copies of the EMDP report.

(b) The DEMD requires four printed copies and four digital copies of the EMDP report. The DEMD will transmit one of these copies to the tribe's BIA Regional Office, and one copy to the tribe's BIA Agency Office. Two printed and two digital copies will then reside with DEMD. These copies should be forwarded to the DEMD offices in Lakewood, Colorado, to the attention of the “Energy and Mineral Development Program.”

All products generated by EMDP studies belong to the tribe and cannot be released to the public without the tribe's written approval. Products include all reports and technical data obtained during the study such as geophysical data, geochemical analyses, core data, lithologic logs, assay data of samples tested, results of special tests, maps and cross sections, status reports, and the final report.

J. Requests for Technical Assistance

The DEMD staff may provide technical consultation (i.e., work directly with tribal staff on a proposed project), provide support documentation and data, provide written language on specialized sections of the proposal, and suggest ways a tribe may obtain other assistance, such as from a company or consultant specializing in a particular area of expertise. However, the tribe is responsible for preparing the executive summary, justification (including tribal commitment), and scope of work for their proposal.

The tribe must notify DEMD in writing that they require assistance, and DEMD will then appoint staff to provide the requested assistance. The tribe's request must clearly specify the type of technical assistance desired.

Requests for technical assistance should be submitted to DEMD's Division Chief well in advance of the proposal deadline established in the DATES section of this solicitation to allow DEMD staff time to provide the appropriate assistance. Tribes not seeking technical assistance should also attempt to submit their EMDP proposals well in advance of the deadline to allow DEMD staff time to review the proposals for possible deficiencies and allow time to contact the tribe with requests for revisions to the initial submission.

Dated: December 5, 2011.
Larry Echo Hawk,
Assistant Secretary—Indian Affairs.

[FR Doc. 2011-32363 Filed 12-16-11; 8:45 am]

BILLING CODE 4310-4M-P